FEDERAL COMMUNICATIONS COMMISSION

Public Information Collections Approved by Office of Management and Budget

November 10, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0526.

OMB Approval Date: 10/26/2005.

Expiration Date: 10/31/2008.

Title: Density Pricing Zone Plans, Expanded Interconnection with Local Telephone Company Facilities, CC Docket No. 91-141.

Form No.: N/A.

Estimated Annual Burden: 17 responses; 816 total annual burden hours; approximately 48 hours average per respondent.

Needs and Uses: The Commission requires Tier 1 Local Exchange Carriers (LECs) to provide expanded opportunities for third-party interconnection with their interstate special access facilities. The LECs are permitted to establish a number of rate zones within study areas in which expanded interconnection is operational. In the Fifth Report and Order in CC Docket No. 96-262, the Commission allows price cap LECs to define the scope and number of zones within a study area. These LECs must file and obtain approval of their pricing plans which will be used by FCC staff to ensure that the rates are just, reasonable and nondiscriminatory.

OMB Control No.: 3060-0742.

OMB Approval Date: 11/01/2005.

Expiration Date: 11/30/2008.

Title: Telephone Number Portability (47 CFR Part 52, Subpart C, Sections 52.21-52.33) and CC Docket No. 95-116.

Form No.: N/A.

Estimated Annual Burden: 2,027 responses; 14,333 total annual burden hours; approximately 2-149 hours average per respondent.

Needs and Uses: 47 CFR Part 52, Subpart C implements the statutory requirement that local exchange carriers (LECs) and Commercial Mobile Radio Service (CMRS) providers provide local number probability (LNP). This collection is being revised to include the implementation of wireless carriers providing LNP. Wireline carriers began providing LNP in 1998. In a Memorandum Opinion and Order (FCC 02-215) in CC Docket No. 95-116, the Commission extended the deadline for CMRS providers to offer LNP. Long-term number portability must be provided by LECs and CMRS providers in switches for which another carrier has made a specific request for number portability, according to the Commission's deployment schedule. Carriers that are unable to meet the deadlines for implementing a long-term number portability solution are required to file with the Commission at least 60 days in advance of the deadline a petition to extend the time by which implementation in its network will be completed.

Incumbent LECs may recover their carrier-specific costs directly related to providing long-term number portability by establishing in tariffs filed with the Commission certain number portability charges. Incumbent LECs are required to include many details in their cost support that are unique to the number portability proceeding pursuant to the Cost Classification Order. For instance, incumbent LECs must demonstrate that any incremental overhead costs claimed in their cost support are actually new costs incremental to and resulting from the provision of long-term number portability. Incumbent LECs are required to maintain records that detail both the nature and specific amount of these carrier-specific costs that are directly related to number portability, and those carrier-specific costs that are not directly related to number portability.

OMB Control No.: 3060-0989.

OMB Approval Date: 11/01/2005.

Expiration Date: 11/30/2008.

Title: Procedures for Applicants Requiring Section 214 Authorization for Domestic Interstate Transmission Lines Acquired Through Corporate Control, 47 CFR Sections 63.01, 63.03 and 63.04.

Form No.: N/A.

Estimated Annual Burden: 86 responses; 959 total annual burden hours; approximately 1.5-12 hours average per respondent.

Needs and Uses: Procedures for Applicants Requiring Section 214 Authorization for Domestic Interstate Transmission Lines Acquired Through Corporate Control are set forth for common carriers requiring authorization under section 214 of the Communications Act of 1934, as amended (Act), 47 U.S.C. 214, to acquire domestic interstate transmission lines through a transfer of control. Under section 214 of the Act, carriers must obtain Federal Communications Commission (FCC) approval before constructing, acquiring, or operating an interstate transmission line. Acquisitions involving interstate common carriers therefore require affirmative action by the FCC before the acquisition can occur.

OMB Control No.: 3060-0770.

OMB Approval Date: 11/07/2005.

Expiration Date: 11/30/2008.

Title: Price Cap Performance Review for Local Exchange Carriers, CC Docket No. 94-1 (New Services).

Form No.: N/A.

Estimated Annual Burden: 34 responses; 170 total annual burden hours; approximately 5 hours average per respondent.

Needs and Uses: In the Fifth Report and Order, the Commission permits price cap LECs to introduce new services on a streamlined basis, without prior approval. The Commission modified the rules to eliminate the public interest showing required by Section 69.4(g) and to eliminate the new services test (except in the case of loop-based new services) required under Sections 61.49(f) and (g). These modifications eliminated the delays that existed for the introduction of new services as well as to encourage efficient investment and innovation.

The Commission no longer requires an incumbent LEC to introduce a new service by filing a waiver under Part 69 of the Commission's rules. Instead, incumbent LECs are allowed to file a petition for the new service based on a public interest standard. After the first incumbent LEC has satisfied the public interest requirement for establishing new rate elements for a new switched access service, other incumbent price cap LECs can file petitions seeking authority to introduce identical rate elements for identical new services, and their petitions will be reviewed within ten days. If the Common Carrier Bureau (now the Wireline Competition Bureau) does not act within the prescribed time, authority to establish the rate elements in question are deemed granted. In the event the Bureau denies an incumbent LEC's initial petition, or a subsequent petition filed by another incumbent LEC, the petitioner must file a Part 69 waiver petition.

Federal Communications Commission.
Marlene H. Dortch,
Secretary.

[FR Doc. 05-22841 Filed 11-22-05; 8:45 am]

BILLING CODE 6712-01-P